ENVIRONMENTAL PROTECTION AGENCY

[FRL-6852-2]

Notice of Availability for Draft Guidance on Design of Flexible Air Permits (White Paper Number 3)

AGENCY: Environmental Protection Agency (EPA).

ACTION: Notice of availability.

SUMMARY: As part of EPA's ongoing efforts to improve implementation of the air permitting programs, we are making available for public review a draft of our pending guidance on the design of flexible air permits (White Paper Number 3). This document provides guidance to State and local permitting authorities on how they can choose to design air permits that provide sources with more operational flexibility while ensuring that they still meet all substantive and procedural requirements of title V of the Clean Air Act and the operating regulations EPA promulgated at part 70 of title 40, chapter I of the Code of Federal Regulations. While not mandatory, we would encourage permitting authorities to use this guidance where allowed by their regulations and as their resources and needs dictate.

In no instance would this guidance allow sources to not comply fully with any applicable requirement; it only presents more flexible approaches for doing so. Where State regulations allow, the guidance is potentially useful in designing permits for sources that make frequent operational changes which must be made in a timely manner, generally to meet changing demands in the marketplace. We believe that the draft will also advance high priority goals within the Agency to: Encourage pollution prevention; assure adequate public participation; promote equal or better environmental protection; and facilitate opportunities for sources to comply in a smarter, more efficient fashion.

A draft of this guidance is available for public review for downloading off the internet (see ADDRESSES). We do not intend to respond to individual comments, but rather to consider comments and information from the public in the preparation of a final guidance document. In addition to comments about the appropriateness of the guidance itself, we welcome ideas about how to communicate its approaches in a clear, concise way. We recognize that this guidance addresses issues of a very complex nature and will work, where possible, to incorporate more plain language concepts in the final version.

DATES: The review period for this document will close on September 14, 2000. Any comments on the draft guidance must be submitted to EPA by that date.

ADDRESSES: The draft guidance can be accessed at http://www.epa.gov/ttn/oarpg/. Comments should be sent to Michael Trutna, Information Transfer and Program Integration Division (MD-12), U.S. EPA, Research Triangle Park, North Carolina 27711, telephone 919-541-5345, telefax 919-541-4028, or E-mail trutna.mike@epa.gov.

FOR FURTHER INFORMATION CONTACT: Michael Trutna at the above address or Roger Powell, Information Transfer and Program Integration Division (MD-12), U.S. EPA, Research Triangle Park, North Carolina 27711, telephone 919-541-5331, telefax 919-541-5509, or E-mail powell.roger@epa.gov.

Dated: August 7, 2000.
John S. Seitz,
Director, Office of Air Quality Planning and Standards.

[FR Doc. 00-20791 Filed 8-14-00; 8:45 am]

BILLING CODE 6560-50-P